DEPARTMENT OF TRANSPORTATION

Federal Aviation Administration

RTCA Government/Industry Air Traffic Management Advisory Committee; Correction

AGENCY: Federal Aviation Administration (FAA), DOT.

ACTION: Correction; Notice of RTCA Government/Industry Air Traffic Management Advisory Committee.

SUMMARY: The FAA is correcting a notice of a meeting that was published on March 20, 2009 (72 FR 11987; FR Doc. E9-6176]. In that notice the FAA advised the public of a meeting of the RTCA Government/Industry Air Traffic Management Advisory Committee. Inadvertently the notice was published with an incorrect meeting date of March 16, 2009. The correct date of the RTCA Government/Industry Air Traffic Management Advisory Committee meeting is May 27, 2009.

DATES: The meeting will be held May 27, 2009, from 1 p.m. to 4 p.m.

ADDRESSES: The meeting will be held at FAA Headquarters, 800 Independence Avenue, SW., Bessie Coleman Conference Center (2nd Floor), Washington, DC 20591.

FOR FURTHER INFORMATION CONTACT: RTCA Secretariat, 1828 L Street, NW., Suite 805, Washington, DC 20036; telephone (202) 833-9339; fax (202) 833-9434; Web site http://www.rtca.org. METRO: L'Enfant Plaza Station (Use 7th & Maryland Exit).

SUPPLEMENTARY INFORMATION: Correction: In the Federal Register of March 20, 2009 (FR Doc. E9-6176) in the third column in the DATES section change the date of the meeting from “March 16, 2009” to “May 27, 2009”. Pursuant to section 10(a)(2) of the Federal Advisory Committee Act (Pub. L. 92-463, 5 U.S.C., Appendix 2), notice is hereby given for the Air Traffic Management Advisory Committee meeting. The agenda will include:

• Opening Plenary (Welcome and Introductions);

• Report from RTCA Task Force on NextGen Mid-Term Implementation (NextGen TF);

• ATMAC Member Discussion and Recommendations;

• Closing Plenary (Other Business, Member Discussion, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 20, 2009.
Meredith Gibbs,
RTCA Advisory Committee.

[FR Doc. E9-6991 Filed 3-27-09; 8:45 am]

BILLING CODE 4910-13-P